DEPARTMENT OF ENERGY

Office of Energy Efficiency and Renewable Energy

Notice of Request for Information (RFI) on Fuel Cells for Continuous On-Board Recharging Application for Battery Electric Light-Duty Vehicles

AGENCY: Office of Energy Efficiency and Renewable Energy, Department of Energy (DOE).

ACTION: Request for Information.

SUMMARY: The U.S. Department of Energy (DOE) invites public comment on its Request for Information (RFI) number DE-FOA-0001145 regarding Fuel Cells for Continuous On-Board Recharging Application for Battery Electric Light-Duty Vehicles. The RFI document is posted at https://eere-exchange.energy.gov/.

The RFI solicits feedback from industry, academia, research laboratories, government agencies, and other stakeholders on issues related to the technical and economic feasibility of commercializing fuel cell range extenders for available battery electric vehicles (BEVs) in the United States market. The Department of Energy is specifically interested in information on BEV makes and models where an after-market modification to extend the vehicle range using a Polymer Electrolyte Membrane (PEM) fuel cell system would be most feasible. This is solely a request for information and not a Funding Opportunity Announcement (FOA). EERE is not accepting FOA applications on this topic.

DATES: Responses to the RFI must be received on or before August 7, 2014.

ADDRESSES: The complete RFI document is located at https://eere-exchange.energy.gov/.

FOR FURTHER INFORMATION CONTACT: Responses to the RFI and questions should be sent via email or email attachment to FuelCellCOBRA@ee.doe.gov. Further instruction can be found in the RFI document posted on EERE Exchange.

SUPPLEMENTARY INFORMATION: The RFI is not a Funding Opportunity Announcement (FOA); therefore, EERE is not accepting applications at this time. EERE may issue a FOA in the future based on or related to the content and responses to the RFI; however, EERE may also elect not to issue a FOA. There is no guarantee that a FOA will be issued as a result of the RFI. Responding to the RFI does not provide any advantage or disadvantage to potential applicants if EERE chooses to issue a FOA regarding the subject matter. Final details, including the anticipated award size, quantity, and timing of EERE funded awards, will be subject to Congressional appropriations and direction.

Any information obtained as a result of the RFI is intended to be used by the Government on a non-attribution basis for planning and strategy development; the RFI does not constitute a formal solicitation for proposals or abstracts. Responses to the RFI will be treated as information only.

EERE will review and consider all responses in its formulation of program strategies for the identified materials of interest that are the subject of this request. EERE will not provide reimbursement for costs incurred in responding to the RFI. Respondents are advised that EERE is under no obligation to acknowledge receipt of the information received or provide feedback to respondents with respect to any information submitted under the RFI. Responses to the RFI do not bind EERE to any further actions related to this topic.

Issued in Golden, CO on June 24, 2014.
Sunita Satyapal,
Director, Fuel Cell Technologies Office, Energy Efficiency and Renewable Energy.

[FR Doc. 2014-15509 Filed 7-1-14; 8:45 am]

BILLING CODE 6450-01-P